DEPARTMENT OF JUSTICE

Notice of Lodging of Consent Decree Under the Comprehensive Environmental Response, Compensation, and Liability Act

Notice is hereby given that a Consent Decree in U.S. v. Arnet Realty Co., et al., Civil Action No. 00-1294 (AJL) (D.N.J.) was lodged with the United States District Court for the District of New Jersey on March 17, 2000.

The proposed consent decree resolves claims asserted by the United States, on behalf of the U.S. Environmental Protection Agency (“EPA”), against: Madison Industries, Inc.; Old Bridge Chemicals, Co.; Arnet Realty Company and its two partners, Arnold Asman and Nettie Bzura; and Ciba Specialty Chemicals Water Treatments, Inc. (formerly CPS Chemical Company, Inc., a subsidiary of Ciba Specialty Chemicals Corporation. (“Settling Defendants”) under Section 107 of the Comprehensive Environmental Response, Compensation, and Liability Act (“CERCLA”), 42 U.S.C. 9607. The claims sought to recover past response costs incurred at the CPS/Madison site (“Site”) in Middlesex County, New Jersey. The proposed Consent Decree requires the Settling Defendants to reimburse the United States $500,000 in past response costs.

The Department of Justice will accept written comments relating to the proposed consent decree for thirty (30) days from the date of publication of this notice. Please address comments to the Assistant Attorney General, Environment and Natural Resources Division, Department of Justice, P.O. Box 7611, Ben Franklin Station, Washington, D.C. 20044 and refer to U.S. v. Arnet Realty Co., et al., Civil Action No. 00-1294 (AJL) (D.N.J.), DJ #90-11-3-1525.

Copies of the proposed consent decree may be examined at the Office of the United States Attorney for the District of New Jersey, 970 Broad Street, Newark, NJ 07102, or at the U.S. Environmental Protection Agency, Region II, 290 Broadway, New York, NY 10007-1866. A copy of the proposed Settlement Agreement may also be obtained by mail from the Consent Decree Library, P.O. Box 7611, Washington, D.C. 20044. When requesting a copy of the consent decree by mail, please enclose a check in the amount of $7.00 (twenty-five cents per page reproduction costs) payable to the “Consent Decree Library.”

Joel M. Gross,
Chief, Environmental Enforcement Section, Environment and Natural Resources Division, U.S. Department of Justice.

[FR Doc. 00-8603 Filed 4-6-00; 8:45 am]

BILLING CODE 4410-15-M